DEPARTMENT OF JUSTICE

Notice of Lodging of Proposed Consent Decree Under the Comprehensive Environmental Response, Compensation, and Liability Act (“CERCLA”)

On September 4, 2015, the Department of Justice lodged a proposed Consent Decree with the United States District Court for the Western District of Pennsylvania in the lawsuit entitled United States of America v. Dunbar Asphalt Products, Inc., Civil Action No. 15-1158.

The proposed settlement resolves the United States' claims against Dunbar Asphalt Products, Inc. (“Dunbar”) for past and future response costs and injunctive relief pursuant to CERCLA Sections 106(a), 107(a)(1), and 113(g), at Operable Unit Two (“OU-2”) of the Sharon Steel Corporation (Farrell Works Disposal Area) Superfund Site in the City of Hermitage, Mercer County, Pennsylvania (“the Site”). The proposed Consent Decree requires that Dunbar perform the interim OU-2 remedial action at the 30 acre OU-2, which includes Dunbar's owned 25-acre property and approximately five acres owned by another party. The estimated cost of the selected interim remedy for OU-2 is approximately $1.7 million. In exchange for Dunbar's agreement to perform the interim remedy on the portion of OU-2 it does not own, the United States will compromise its claim for past response costs related to OU-2. Dunbar will also pay 90% of the government's future response costs for OU-2.

The publication of this notice opens a period for public comment on the Consent Decree. Comments should be addressed to the Assistant Attorney General, Environment and Natural Resources Division, and should refer to United States of America v. Dunbar Asphalt Products, Inc., D.J. Ref. No. 90-11-3-11103. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $39.75 (25 cents per page reproduction cost), or $11.50 for the Consent Decree without the Appendices, payable to the United States Treasury.

Robert Brook,
Assistant Section Chief, Environmental Enforcement Section, Environment and Natural Resources Division.

[FR Doc. 2015-22865 Filed 9-10-15; 8:45 am]

BILLING CODE 4410-15-P